DEPARTMENT OF THE INTERIOR

Bureau of Land Management

[LLWO300000, L14300000.ET0000.xx00000]

Public Land Order No. 7818; Withdrawal of Public Lands for the Protection and Preservation of Solar Energy Zones for Future Energy Development; Arizona, California, Colorado, Nevada, New Mexico, and Utah

AGENCY: Bureau of Land Management, Interior.

ACTION: Public land order.

SUMMARY: This order withdraws 303,900 acres of public lands from location and entry under the United States mining laws, subject to valid existing rights, for a period of 20 years to protect 17 Solar Energy Zones (SEZ) for future solar energy development. The lands have been and will remain open to mineral and geothermal leasing, and mineral material sales.

DATES: As of: June 27, 2013.

FOR FURTHER INFORMATION CONTACT: Ray Brady, Bureau of Land Management, by telephone at 202-912-7312 or by email at rbrady@blm.gov, or contact one of the Bureau of Land Management offices listed below:

Arizona State Office, One North Central Avenue, Suite 800, Phoenix, Arizona 85004, 602-417-9200.

California State Office, 2800 Cottage Way, Suite W-1623, Sacramento, California 95825, 916-978-4400.

Colorado State Office, 2850 Youngfield Street, Lakewood, Colorado 80215, 303-239-3600.

Nevada State Office, 1340 Financial Boulevard, Reno, Nevada 89502, 775-861-6400.

New Mexico State Office, 301 Dinosaur Trail, Santa Fe, New Mexico 87508, 877-276-9404.

Utah State Office, 440 West 200 South, Suite 500, Salt Lake City, Utah 84101, 801-539-4133.

Persons who use a telecommunications device for the deaf (TDD) may call the Federal Information Relay Service (FIRS) at 1-800-877-8339 to contact the above individual or offices. The FIRS is available 24 hours per day, 7 days per week, to leave a message or question with the above individual. You will receive a reply during normal business hours.

SUPPLEMENTARY INFORMATION: Copies of maps depicting the land descriptions are available within the Programmatic Environmental Impact Statement for Solar Energy Development in Six Southwestern States Web site (http://solareis.anl.gov) and are also available from the Bureau of Land Management offices listed in the “For Further Information Contact” section above.

Order

By virtue of the authority vested in the Secretary of the Interior by Section 204 of the Federal Land Policy and Management Act of 1976, 43 U.S.C. 1714, it is ordered as follows:

1. Subject to valid existing rights, the following-described public lands are hereby withdrawn from location and entry under the United States mining laws (30 U.S.C. Ch. 2), but not from the public land, mineral leasing, geothermal leasing, or mineral material laws, to protect 17 solar energy zones:

ARIZONA—AZ 035131

Gila and Salt River Meridian

Brenda SEZ:

T. 5 N., R. 15 W.,

Sec. 31, lots 1 to 4, inclusive, E½NW¼, and E½SW¼.

T. 4 N., R. 16 W.,

Sec. 1, lots 3 and 4, S½NW¼, and SW¼;

Secs. 2, 3, and 4;

Sec. 9, NE¼, NE¼NW¼, and NE¼SE¼;

Sec. 10, N½, N½S½, and SW¼SW¼;

Sec. 11, NW¼.

The areas described aggregate 3,343 acres.

Gillespie SEZ:

T. 2 S., R. 6 W.,

Sec. 6, SW¼, W½SE¼, and SE¼SE¼, unsurveyed;

Sec. 7, N½;, NE¼SW¼, N½SE¼, and SE¼SE¼, unsurveyed;

Sec. 8, SE¼NW¼;, W½;NW¼, SW¼, S½SE¼, and NW¼SE¼, unsurveyed;

Sec. 9, SW¼SW¼, unsurveyed;

Sec. 15, NW¼SW¼, N½SW¼SW¼, SE¼SW¼, and S½SW¼SE¼, unsurveyed;

Sec. 16, S½NE¼, S½NW¼NE¼, NW¼, and N½NE¼SE¼, unsurveyed;

Sec. 17, N½NE¼, N½SE¼NE¼, NE¼NW¼, and N½NW¼NW¼, unsurveyed;

Sec. 22, S½NE¼NE¼, NW¼NE¼, N½SW¼NE¼, SE¼NE¼, and N½NE¼NW¼, unsurveyed;

Sec. 23, SW¼NW¼, N½SW¼, SE¼SW¼, S½NE¼SE¼, NW¼SE¼, and S½SE¼, unsurveyed;

Sec. 24, S½NW¼SW¼ and S½SW¼, unsurveyed.

T. 2 S., R. 7 W.,

Sec. 1, SE¼SW¼, NE¼SE¼, and S½SE¼;

Sec. 12, N½NE¼, SE¼NE¼, and NE¼NW¼.

The areas described aggregate 2,607 acres.

CALIFORNIA—CA 050951

San Bernardino Meridian

Riverside East SEZ

T. 4 S., R. 15 E.,

Sec. 25, NE¼NE¼, W½NE¼, W½, W½SE¼, and SE¼SE¼, excluding fee easement CARI 07041;

Sec. 26, N½, S½SW¼SW¼, SW¼SE¼SW¼, NE¼SE¼, NE¼NW¼SE¼, and NE¼SE¼SE¼, excluding fee easements CALA 053581 and CARI 07041;

Sec. 27, N½NE¼, N½SE¼ NE¼, N½NE¼NW¼, SE¼NE¼SW¼, E½SE¼SW¼, S½SE¼, and S½NW¼SE¼, excluding the Chuckwalla Desert Wildlife Management Area (DWMA) and fee easements CALA 053581 and CARI 07041;

Sec. 34, E½ and E½E½W½, excluding the Chuckwalla DWMA;

Sec. 35, lot 2, SW¼NE¼NE¼, S½NW¼NE¼, S½NE¼, SE¼SE¼NE¼, W½, N½SE¼, and SW¼SE¼, excluding fee easements CALA 053581, CARI 07041, and CALA 057221.

T. 5 S., R. 15 E.,

Sec. 3, lot 1 in the NE¼, E½ lot 2 in the NE¼, and E½SE¼, excluding the Chuckwalla DWMA;

Sec. 10, E½NE¼ and NE¼SE¼, excluding the Chuckwalla DWMA;

Sec. 13, S½;

Sec. 14, S½;

Sec. 15, E½SE¼, excluding the Chuckwalla DWMA;

Sec. 22, E½NE¼, N½S½, SW¼SW¼, N½SE¼SW¼, and SW¼SE¼SW¼, excluding the Chuckwalla DWMA;

Sec. 23, N½ and SE¼;

Sec. 24, N½, SW¼, NE¼SE¼, and S½SE¼;

Sec. 25, those portions of N½N½ and NW¼SW¼NW¼, northerly of the northern right-of-way boundary CACA 18888;

Sec. 27, NW¼NW¼, northerly of the northern right-of-way boundary CARI 07303, excluding the Chuckwalla DWMA.

T. 4 S., R. 16 E.,

Sec. 31, S½ of lot 3 in the SW¼, excluding fee easement CALA 053581.

T. 5 S., R 16 E.,

Secs. 1 and 2;

Sec. 3, lots 1 and 2 in the NE¼, lots 1 and 2 in the NW¼, and SE¼, excluding fee easement CALA 053581;

Sec. 4, lots 1 and 2 in the NE¼, excluding fee easement CALA 053581;

Sec. 6, lots 1 and 2 in the NE¼ and lots 1 and 2 in the NW¼, excluding fee easement CALA 053581;

Sec. 8, S½NW¼SW¼ and SW¼SW¼;

Secs. 10, 11, and 13, excluding fee easement CALA 053581;

Sec. 14, E½;

Sec. 15, S½;

Sec. 17, S½NE¼, NW¼NW¼, and S½NW¼;

Sec. 18, lots 1 and 2 in the SW¼ and SE¼;

Secs. 19 and 20;

Sec. 21, N½;

Sec. 22;

Sec. 23, NE¼, N½NW¼, SE¼NW¼, and S½;

Sec. 24;

Sec. 25, W½;

Sec. 26;

Sec. 27, northerly of the northern right-of-way boundary CARI 05498;

Sec. 28, N½N½N½;

Sec. 29, N½N½N½;

Sec. 30, lot 1 in the NW¼, N½ of lot 2 in the NW¼, and N½NE¼;

Sec. 34, those portions of N½N½NE¼, and NE¼NE¼NW¼, lying northerly of the northern right-of-way boundary CARI 05498;

Sec. 35, N½N½N½.

T. 5 S., R. 17 E.,

Secs. 1 and 2, excluding the Palen McCoy Wilderness Area CACA 35105;

Sec. 3, excluding fee easement CALA 053588;

Sec. 5, lots 1 and 2 in the NW¼ and SW¼;

Sec. 6;

Sec. 7, excluding fee easement CALA 053581;

Sec. 8, W½ and SE¼;

Sec. 9, SW¼, W½SE¼, SW¼NE¼SE¼, W½SE¼SE¼, and SE¼SE¼SE¼;

Sec. 10, E½E½E½, excluding fee easement CALA 053581;

Sec. 11, excluding the Palen McCoy Wilderness Area CACA 35105;

Sec. 14, excluding the Palen McCoy Wilderness Area CACA 35105, and excluding fee easement CALA 053588;

Sec. 15, NE¼NE¼NE¼, SW¼NW¼SW¼, W½SW¼SW¼, SE¼SW¼SW¼, and S½SE¼SW¼, excluding fee easement CALA 053588;

Secs. 17 and 18, excluding fee easement CALA 053581;

Sec. 19, lots 1 and 2 in the NW¼, lots 1 and 2 in the SW¼, and NE¼;

Sec. 20, W½NW¼, SE¼NW¼, and S½;

Sec. 21;

Sec. 22, excluding fee easement CALA 053588;

Sec. 23, excluding the Palen McCoy Wilderness Area CACA 35105 and fee easement CALA 053588;

Sec. 26, SW¼NW¼ and SW¼;

Sec. 27, N½, N½SW¼, SE¼SW¼, and SE¼;

Sec. 28;

Sec. 29, NE¼ and S½;

Secs. 31 to 34, inclusive;

Sec. 35, N½NW¼ and SW¼NW¼.

T. 6 S., R. 17 E.,

Sec. 1, lots 1 and 2 in the NW¼ and S½;

Sec. 2;

Sec. 3, E½ lot 1 in the NE¼, lot 2 in the NE¼, W½ lot 1 in the NW¼, lot 2 in the NW¼, W½SW¼, and E½SE¼;

Sec. 4, that portion lying northerly of the northern right-of-way of CARI 05498;

Sec. 5, lot 2 in the NE¼ and lot 2 in the NW¼;

Sec. 6 and secs. 9 to 12, inclusive, those portions northerly of the northern right-of-way of CARI 05498.

T. 6 S., R. 18 E.,

Secs. 1 to 4, inclusive, excluding the Palen McCoy Wilderness area CACA 35105;

Sec. 7, lots 1 and 2 in the SW¼ and SE¼;

Sec. 9;

Sec. 10, N½, NE¼SW¼, and N½SE¼;

Secs. 11, 12, and 13;

Sec. 14, N½, N½SW¼, and SE¼;

Secs. 17 and 18, those portions lying northerly of the northern right-of-way line of CARI 05498;

Sec. 23, N½NE¼, NE¼NW¼, and that portion of the N½SE¼, lying northerly of the northern right-of-way line of CARI 05498;

Sec. 24, that portion of the S½ lying northerly of the northern right-of-way line of CARI 05498.

T. 6 S., R. 19 E.,

Secs. 3 to 6, inclusive, excluding the Palen McCoy Wilderness area CACA 35105;

Secs. 7, 8, and 9;

Secs. 10 to 13, inclusive, excluding the Palen McCoy Wilderness area CACA 35105;

Secs. 14, 15, 17, and 18;

Sec. 19, N½ lot 1 in the NW¼, N½ lot 2 in the NW¼, S½ lot 1 in the SW¼, S½ lot 2 in the SW¼, NW¼NE¼, and SE¼;

Secs. 20 to 24, inclusive;

Sec. 25, W½;

Secs. 26 and 27;

Secs. 28, 29, 34, and 35, lying northerly of the northern right-of-way line of CALA 0107395.

T. 6 S., R. 20 E.,

Sec. 3, partially unsurveyed;

Secs. 5, 7, and 8, excluding the Palen McCoy Wilderness area CACA 35105;

Secs. 9, 10, and 15;

Sec. 16, NE¼NW¼ and S½NW¼;

Sec. 17, N½ and SE¼;

Sec. 18;

Sec. 19, lots 1 and 2 in the SW¼ and W½E½;

Sec. 20, W½, NE¼SE¼, and S½SE¼;

Sec. 21, NE¼, N½NW¼, SW¼NW¼, and SE¼;

Sec. 22, N½ and SE¼, partly unsurveyed;

Sec. 23, S½;

Sec. 24, S½;

Sec. 25, N½ and SE¼;

Sec. 26;

Sec. 27, N½NW¼, SW¼NW¼, and S½;

Sec. 28, NE¼, NE¼SW¼, S½SW¼, and SE¼;

Secs. 29 and 30;

Sec. 31, N½ lot 1 in the NW¼ and N½N½NE¼;

Sec. 32, N½N½N½;

Sec. 33, N½N½N½;

Sec. 34, N½N½N½;

Sec. 35, NW¼NE¼, N½NW¼, and S½.

T. 7 S., R. 20 E.,

Sec. 1, lots 1 and 2 in the NE¼, lots 1 and 2 in the NW¼, and SW¼;

Sec. 2, lots 1 and 2 in the NE¼, lots 1 and 2 in the NW¼, and SE¼;

Sec. 11, NE¼NE¼, S½NE¼, and S½;

Secs. 12, 13, 24, and 25.

T. 4 S., R. 21 E.,

Sec. 2, SW¼, partly unsurveyed;

Secs. 3 and 4;

Sec. 5, E½ lot 1 in the NE¼, lots 5 to 12, inclusive, and SE¼;

Sec. 8, E½;

Secs. 9 to 15, inclusive, partly unsurveyed, and secs. 21 to 35, inclusive.

T. 5 S., R. 21 E.,

Secs. 1 to 14, inclusive;

Sec. 15, S½;

Secs. 17 to 23, inclusive, partly unsurveyed;

Sec. 24, S½;

Secs. 25 to 30, inclusive, and secs. 32 to 35, inclusive, partly unsurveyed.

T. 6 S., R. 21 E.,

Secs. 4, 5, 8, and 9;

Sec. 15, lots 1 and 2, SW¼, and W½SE¼;

Secs. 19 and 22;

Sec. 23, lots 2, 3, 5, and 6, and W½W½;

Sec. 26, lot 1;

Sec. 27;

Sec. 29, N½ and SW¼;

Sec. 30;

Sec. 31, lots 5, 6, 9 to 12, inclusive, 17, and 18, S½NE¼, and SE¼;

Sec. 32, NW¼;

tracts 37 to 47, inclusive, 49 to 56, inclusive, 58, 59, 61, 62, 68, 69, 71, 73 to 78A, inclusive, and 78B to 80, inclusive.

T. 7 S., R. 21 E.,

Sec. 2, lots 3 to 6, inclusive, S½N½, E½SW¼, and NW¼SE¼;

Sec. 3;

Sec. 4, lots 3 and 4, S½NE¼, and S½;

Sec. 5, S½S½;

Sec. 6, SE¼;

Sec. 7;

Sec. 8, SW¼;

Sec. 9, NE¼ and S½;

Sec. 10;

Sec. 11, N½ and SW¼;

Sec. 12, NW¼ and N½SW¼;

Sec. 13;

Sec. 14, S½NE¼, W½, and SE¼;

Sec. 15, W½ and SE¼;

Sec. 17, NE¼, SE¼NW¼, and S½;

Sec. 18;

Secs. 19, 20, and 21, excluding the Mule Mountain Area of Critical Environmental Concern (ACEC);

Sec. 22, N½ and SW¼;

Secs. 23 and 24;

Sec. 25, S½NW¼ and N½SW¼;

Sec. 26, E½;

Secs. 27 to 34, inclusive, excluding the Mule Mountain ACEC;

Sec. 35.

T. 4 S., R 22 E.,

Sec. 7, unsurveyed;

Sec. 8, excluding the Big Maria Mountain Wilderness Area CACA 35061, unsurveyed;

Secs. 17 to 20, inclusive and secs. 29 to 33, inclusive, unsurveyed.

T. 5 S., R. 22 E.,

Secs. 2 to 6, inclusive;

Sec. 7, lots 1 and 2 in the NW¼ and E½;

Secs. 8 to 14, inclusive;

Sec. 15, E½;

Sec. 17;

Sec. 18, lots 1 and 2 in the NW¼, lots 1 and 2 in the SW¼, and NE¼;

Secs. 19 and 20;

Sec. 21, S½;

Secs. 22, 23, and 24;

Sec. 25, W½NE¼, NW¼, N½SW¼, excluding Midland Road as designated on record of survey map on file in Book 11 pages 49 and 50 of record of survey, Records of Riverside County California;

Sec. 26, N½;

Sec. 27, N½ and SW¼;

Sec. 28, S½;

Sec. 29, N½ and SW¼;

Sec. 30;

Sec. 31, E½;

Sec. 32;

Sec. 33, SW¼.

T. 6 S., R. 22 E.,

Sec. 3, lots 1 and 2 in the NW¼;

Secs. 4 to 7, inclusive;

Sec. 8, lots 1 to 6, inclusive, N½NE¼, and NW¼;

Sec. 9, NE¼, N½NW¼, SE¼NW¼, and E½SE¼;

Sec. 10, NW¼NW¼;

Sec. 17, lot 1;

Sec. 18, lots 1 to 6, inclusive.

T. 7 S., R. 22 E.,

Sec. 18, lot 4,

tract 62;

tract 63, lot 1;

tracts 64, 113, and 115.

The areas described aggregate 159,457 acres.

Imperial East SEZ:

T. 16 S., R. 17 E.,

Secs. 21 to 28, inclusive, those portions lying southerly of the southern right-of-way of Interstate 8 and east of Lake Cahuilla No. 5 ACEC;

Sec. 33, except that portion lying in Lake Cahuilla No. 5 ACEC;

Secs. 34 and 35.

T. 16 S., R. 18 E.,

Secs. 29 and 30, those portions lying southerly of the southern right-of-way of Interstate 8;

Sec. 31, lot 3, NE¼, NE¼NW¼, SE¼SW¼, and S½SE¼;

Sec. 32, that portion of the N½N½ lying southerly of the southern right-of-way of Interstate 8, S½NW¼SW¼, and S½S½;

Sec. 33, that portion of the N½ lying southerly of the southern right-of-way of Interstate 8 and N½SE¼;

Sec. 34, those portions of the N½SW¼ and NW¼SE¼ lying southerly of the southern right-of-way of Interstate 8.

The areas described aggregate 5,722 acres.

COLORADO—CO 073899

New Mexico Principal Meridian

Antonito Southeast SEZ:

T. 32 N., R. 9 E.,

Sec. 3, lot 4, SW¼NW¼, W½SW¼, SE¼SW¼, SW¼SE¼, and E½SE¼;

Secs. 4, 9, 10, and 11;

Sec. 12, W½ and SE¼;

Secs. 13, 14, 15, and secs 21 to 24, inclusive.

T. 32 N., R. 10 E.,

Sec. 7, lot 4, SE¼SW¼, and S½SE¼;

Sec. 8, S½S½;

Sec. 9, SW¼SW¼;

Secs. 17 to 20, inclusive;

Sec. 21, lots 1 to 4, inclusive, W½NE¼, and NW¼.

The areas described aggregate 10,318 acres.

Fourmile East SEZ

T. 37 N., R. 12 E.,

Sec. 2, lots 3 and 4 and S½NW¼;

Sec. 3, lots 3 and 4 and S½N½.

T. 38 N., R. 12 E.,

Sec. 13, SW¼ and W½SE¼;

Sec. 23;

Sec. 24, W½ and W½SE¼;

Sec. 25, W½NE¼ and W½;

Sec. 26;

Sec. 35, NW¼.

The areas described aggregate 2,882 acres.

Los Mogotes East SEZ

T. 34 N., R. 8 E.,

Secs. 1 and 12;

Sec. 13, NE¼NE¼, W½NE¼, W½, and NW¼SE¼;

Sec. 24, W½ and W½SE¼;

Sec. 25, W½E½ and W½.

The areas described aggregate 2,640 acres.

DeTilla Gulch SEZ

T. 45 N., R. 9 E.,

Sec. 29, that portion of the S½ lying one-quarter mile or more southeasterly and parallel to the centerline of Highway 285;

Sec. 30, that portion of the SE¼SE¼ lying one-quarter mile or more southeasterly and parallel to the centerline of Highway 285;

Sec. 31, those portions of the NE¼ and the SE¼NW¼ lying one-quarter mile or more southeasterly and parallel to the centerline of Highway 285; and those portions of the NE¼SW¼ and the N½SE¼ lying one-quarter mile or more north of and parallel to the centerline of the Old Spanish National Historic Trail as mapped by the National Park Service;

Sec. 32, N½, and that portion of the N½SW¼, lying one-quarter mile or more north of and parallel to the centerline of the Old Spanish National Historic Trail as mapped by the National Park Service;

Sec. 33, N½NE¼ and NW¼.

The areas described aggregate 1,064 acres.

NEVADA—NV 087208

Mount Diablo Meridian

Amargosa Valley SEZ:

T. 13 S., R. 47 E.,

Sec. 35, NE¼NE¼, S½NE¼, W½NW¼, SE¼NW¼, and S½;

Sec. 36, that portion lying southerly and westerly of the centerline of U.S. Highway No. 95.

T. 14 S., R. 47 E.,

Sec. 8, E½, unsurveyed;

Sec. 9, unsurveyed;

Secs. 10, 11, 13, and 14, those portions lying southerly and westerly of the centerline of U.S. Highway No. 95, unsurveyed;

Secs. 15 and 16, unsurveyed;

Sec. 21, E½, unsurveyed;

Secs. 22 and 23, unsurveyed;

Sec. 24, that portion lying southerly and westerly of the centerline of U.S. Highway No. 95, unsurveyed;

Sec. 25, W½NE¼, and W½, unsurveyed;

Secs. 26 and 27, unsurveyed;

Sec. 34, E½, unsurveyed;

Sec. 35, unsurveyed;

Sec. 36, W½, unsurveyed.

T. 15 S., R. 47 E.,

Sec. 1, W½W½, unsurveyed;

Sec. 2, unsurveyed;

Sec. 12, NW¼NW¼, unsurveyed.

The areas described aggregate 9,690 acres.

Dry Lake SEZ:

T. 17 S., R. 63 E.,

Sec. 33, lots 9, 10, 13, and 14, and NE¼SE¼;

Sec. 34, lots 1 to 4, inclusive, NE¼, S½NW¼, and N½S½;

Secs. 35 and 36.

T. 18 S., R. 63 E.,

Secs. 1 and 2;

Sec. 3, lots 1 2, 3, 5, 7 to 10, inclusive, 13, and 14, S½NE¼, and NE¼SE¼;

Sec. 4, lot 5;

Sec. 10, lot 1;

Sec. 11, lots 1, 3, 4, 5, and 9, NE¼, NE¼NW¼, N½SE¼, and SE¼SE¼;

Sec. 12; that portion lying northerly and westerly of the centerline of the southbound lane of I-15;

Sec. 13, those portions lying northerly and westerly of the centerline of the southbound lane of I-15 and northerly and easterly of the centerline of U.S. Highway No. 93;

Sec. 14, lot 1.

T. 17 S., R. 64 E.,

Sec. 31, lots 5 to 8, inclusive, SW¼NE¼, E½W½, and that portion of the SE¼ lying northerly and westerly of the centerline of the southbound lane of I-15;

Sec. 32, that portion of the SW¼ lying northerly and westerly of the centerline of the southbound lane of I-15.

T. 18 S., R. 64 E.,

Secs. 6 and 7, those portions lying northerly and westerly of the centerline of the southbound lane of I-15.

The areas described aggregate 6,160 acres.

Dry Lake Valley North SEZ:

T. 1 N., R. 64 E.,

Sec. 35, S½;

Sec. 36, S½.

T. 1 S., R. 64 E.,

Secs. 1, 12, and 13;

Sec. 21, E½ and E½W½;

Secs. 22 to 27, inclusive;

Sec. 28, E½;

Sec. 33, E½E½ and NW¼NE¼;

Secs. 34, 35, and 36.

T. 2 S., R. 64 E.,

Secs. 1, 2, and 3;

Sec. 4, lot 1 and SE¼NE¼;

Sec. 10, N½, N½SW¼, SE¼SW¼, and SE¼;

Secs. 11 to 14, inclusive;

Sec. 15, NE¼, E½NW¼, NE¼SW¼, N½SE¼, and SE¼SE¼;

Sec. 23, NE¼, N½NW¼, SE¼NW¼, N½SE¼, and SE¼SE¼;

Sec. 24;

Sec. 25, N½NE¼.

T. 1 N., R. 65 E.,

Sec. 31, S½;

Sec. 32, W½SW¼.

T. 1 S., R. 65 E.,

Sec. 6, lots 3, 4, and 7 to 13, inclusive;

Secs. 7, 8, 17 to 20, inclusive, and secs 29, 30, and 31;

Sec. 32, N½, SW¼, and W½SE¼.

T. 2 S., R. 65 E.,

Sec. 5, lots 2, 3, and 4, SW¼NE¼, S½NW¼, SW¼, and W½SE¼;

Secs. 6 and 7;

Sec. 8, W½E½ and W½;

Sec. 17, W½NE¼, SE¼NE¼, W½, and SE¼;

Secs. 18 and 19;

Sec. 20, W½NE¼ and W½;

Sec. 29, NW¼, N½SW¼, and SE¼SW¼;

Sec. 30, lot 1, NE¼, E½NW¼, and NE¼SE¼.

The areas described aggregate 28,726 acres.

Gold Point SEZ:

T. 6 S., R. 41 E.,

Sec. 13, S½;

Sec. 14, E½SE¼;

Sec. 23, E½E½ and NW¼SE¼;

Sec. 24;

Sec. 25, N½, NE¼SW¼, and N½SE¼;

Sec. 26, NE¼NE¼.

T. 6 S., R. 41½ E.,

Sec. 13, N½SW¼ and SW¼SW¼, unsurveyed;

Sec. 14, S½, unsurveyed;

Sec. 15, S½, unsurveyed;

Sec. 16, S½, unsurveyed;

Secs. 21 and 22, unsurveyed;

Sec. 23, N½NE¼, SW¼NE¼, W½, and NW¼SE¼, unsurveyed;

Sec. 26, NW¼NW¼, unsurveyed;

Sec. 27 N½, SW¼, N½SE¼, and SW¼SE¼, unsurveyed;

Sec. 28, unsurveyed.

The areas described aggregate 4,810 acres.

Millers SEZ:

T. 3 N., R. 39 E.,

Sec. 1;

Sec. 2, lot 1, S½NE¼, NE¼SW¼, S½SW¼, and SE¼;

Sec. 11, N½N½ and SW¼NW¼;

Sec. 12, N½NW¼.

T. 4 N., R. 39 E.,

Sec. 36, NE¼NE¼, S½NE¼, NE¼SW¼, S½SW¼, and SE¼.

T. 3 N., R. 40 E.,

Sec. 4, lots 3 and 4, S½NW¼, and NW¼SW¼;

Sec. 5, lots 1 to 4, inclusive, S½N½, and N½S½;

Sec. 6.

T. 4 N., R. 40 E.,

Sec. 10, S½S½;

Sec. 11, S½;

Sec. 12, SW¼NE¼, S½NW¼, SW¼, and W½SE¼;

Sec. 13, W½E½ and W½;

Secs. 14, 15, and 16;

Sec. 17, S½N½ and S½;

Sec. 18, SE¼;

Sec. 19, E½, E½NW¼, and NE¼SW¼;

Secs. 20 to 23, inclusive;

Sec. 24, W½E½ and W½;

Sec. 25, NW¼ and W½SW¼;

Secs. 26 to 29, inclusive;

Sec. 30, lot 4, E½, and E½SW¼;

Secs. 31 and 32;

Sec. 33, N½, SW¼, and N½SE¼;

Sec. 34;

Sec. 35, N½, SW¼, and W½SE¼.

The areas described aggregate 16,560 acres.

NEW MEXICO—NM 114441

New Mexico Principal Meridian

Afton SEZ:

T. 25 S., R. 1 E.,

Secs. 7, 8, 14, 15, 17, and 18;

Sec. 19, lots 1 to 4, inclusive, NE¼NE¼, W½E½, E½W½, and SE¼SE¼;

Sec. 20, NE¼, N½NW¼, SE¼NW¼, NE¼SW¼, S½SW¼, N½SE¼, SW¼SE¼, and W½SE¼SE¼;

Sec. 21, N½, N½S½, SE¼SW¼, and S½SE¼;

Secs. 22 to 30, inclusive, and Secs. 33, 34, and 35.

T. 24 S., R. 1 W.,

Sec. 19 and Secs. 28 to 35, inclusive.

T. 25 S., R. 1 W.,

Sec. 1, Secs. 3 to 6 inclusive, and Secs. 8 to 15, inclusive.

T. 24 S., R. 2 W.,

Secs. 23 to 26, inclusive, and Sec. 35.

T. 25 S., R. 2 W.,

Sec. 1.

The areas described aggregate 30,706 acres.

UTAH—087557

Salt Lake Meridian

Escalante Valley SEZ:

T. 33 S., R. 14 W.,

Sec. 8, NE¼, E½NW¼, SW¼NW¼, and S½;

Sec. 9, E½NE¼, S½SW¼, and SE¼;

Sec. 10;

Sec. 11, W½ and W½SE¼, those portions lying west of Railroad Right-of-Way Grant UTSL 0032533;

Sec. 14, E½, that portion lying west of Railroad Right-of-Way Grant UTSL 0032533;

Secs. 15, 17, 19, and 30;

Sec. 31, excluding the dry intermittent lake bed in lots 3 and 4.

T. 34 S., R. 14 W.,

Sec. 6, lot 4.

T. 33 S., R. 15 W.,

Sec. 24, NW¼;

Sec. 25.

The areas described aggregate 6,837 acres.

Milford Flats South SEZ:

T. 30 S., R. 10 W.,

Sec. 18, lots 1 and 2, and E½NW¼.

T. 30 S., R. 11 W.,

Sec. 7, lots 3 and 4, and E½SE¼;

Sec. 8, SW¼ and W½SE¼;

Sec. 10, NE¼, E½NW¼, and S½;

Sec. 12, W½;

Sec. 13, N½, N½SW¼, and NW¼SE¼;

Secs. 14 and 15, excluding the Minersville Canal;

Secs. 17 and 18;

Sec. 19, lots 1 and 2, NE¼, and E½NW¼;

Sec. 20, excluding the Minersville Canal;

Sec. 21, N½, N½S½, and SW¼SW¼, excluding the Minersville Canal;

Sec. 22, N½NE¼ and NW¼, excluding the Minersville Canal;

Sec. 29, N½NW¼, excluding the Minersville Canal;

Sec. 30, N½NE¼.

The areas described aggregate 6,320 acres.

Wah Wah Valley SEZ:

T. 27 S., R. 14 W.,

Sec. 8, E½ and SE¼SW¼;

Sec. 9, N½, N½SW¼, SE¼SW¼, and SE¼;

Sec. 10;

Sec. 11, lots 1 and 2, SW¼NE¼, S½NW¼, SW¼, and W½SE¼, excluding the WahWah Wash;

Sec. 13, lot 1;

Sec. 14, excluding the WahWah Wash;

Sec. 15;

Sec. 17, NW¼NE¼;

Sec. 21, lots 1 and 6, and E½NE¼;

Sec. 22;

Sec. 23, excluding the WahWah Wash;

Sec. 26, N½ and N½S½, excluding the WahWah Wash;

Sec. 27, N½ and N½S½;

Sec. 28, NE¼ and N½SE¼.

The areas described aggregate 6,058 acres.

The total areas described aggregate 303,900 acres of public lands in Arizona, California, Colorado, Nevada, New Mexico, and Utah.

2. The withdrawal made by this order does not alter the applicability of the public land laws other than the mining laws.

3. This withdrawal will expire 20 years from the effective date of this order, unless, as a result of a review conducted before the expiration date pursuant to Section 204(f) of the Federal Land Policy and Management Act of 1976, 43 U.S.C. 1714(f), the Secretary determines that the withdrawal shall be extended.

Dated: June 27, 2013.
Rhea S. Suh,
Assistant Secretary—Policy, Management and Budget.

[FR Doc. 2013-16215 Filed 7-3-13; 8:45 am]

BILLING CODE 4310-84-P